DEPARTMENT OF COMMERCE

National Oceanic and Atmospheric Administration

50 CFR Part 600

[I.D. 102802B]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for EFPs to conduct experimental fishing; request for comments.

SUMMARY: The Administrator, Northeast Region, NMFS (Regional Administrator) has made a preliminary determination that the subject exempted fishing permit (EFP) application contains all the required information and warrants further consideration. The Regional Administrator has also made a preliminary determination that the activities authorized under the EFP would be consistent with the goals and objectives of the Northeast (NE) Multispecies Fishery Management Plan (FMP). However, further review and consultation may be necessary before a final determination is made to issue the EFP. Therefore, NMFS announces that the Regional Administrator proposes to issue an EFP that would allow two vessels to conduct fishing operations that are otherwise restricted by the regulations governing the fisheries of the Northeastern United States. The EFP would exempt two vessels from the days-at-sea (DAS) requirements, and the Gulf of Maine (GOM) Rolling Closure Area IV restrictions. The experiment proposes to conduct a study to target flatfish using a large mesh trawl net (8-inch (20.32-cm) mesh throughout the net) in order to develop otter trawl gear for the NE multispecies fishery that would result in reduced catch of Atlantic cod. The EFP would allow these exemptions for two commercial vessels, for not more than 8 days of sea trials per vessel. All experimental work would be monitored by a project coordinator for the Northeast Consortium-funded project.

Regulations under the Magnuson-Stevens Fishery Conservation and Management Act require publication of this notification to provide interested parties the opportunity to comment on applications for proposed EFPs.

DATES: Comments on this document must be received on or before November 19, 2002.

ADDRESSES: Written comments should be sent to Patricia A. Kurkul, Regional Administrator, NMFS, Northeast Regional Office, 1 Blackburn Drive, Gloucester, MA 01930. Mark the outside of the envelope “Comments on Northeast Consortium-funded EFP Proposal for 8” Square Mesh Bottom Trawl.” Comments may also be sent via facsimile (fax) to (978) 281-9135.

FOR FURTHER INFORMATION CONTACT: Douglas W. Christel, Fisheries Management Specialist, 978-281-9141.

SUPPLEMENTARY INFORMATION: An application for an EFP was submitted by Phil Averill as part of a Northeast Consortium-funded project on September 23, 2002. The EFP would exempt two federally permitted commercial fishing vessels from the following NE multispecies provisions: The Rolling Closure Area IV restriction; and the NE multispecies DAS restrictions.

The goal of this study is to assess the applicability of using 8-inch (20.32-cm) square mesh throughout the entire trawl net in the inshore GOM groundfish fishery. The vessels would be primarily targeting grey sole and American plaice. The incidental catch is expected to be primarily Atlantic cod.

The applicant has proposed that the research be conducted within the GOM in the area defined as follows: Between 43o00' and 44o00' N. lat. and between 69o00' and 70o00' W. long. Each vessel, one fishing with the experimental 8-inch (20.32-cm) square mesh net and one fishing with a conventional 6.5-inch (16.51-cm) diamond mesh cod-end trawl net, would conduct a total of 24 side-by-side tows of between 1 and 2 hours duration over a period of 8 sea days (3 tows per day). The tows would take place between November 1 and December 31, 2002, and between May 15 and July 15, 2003. These areas, during these specific times, have been selected because it is expected that there will be significant concentrations of both flat and round fish available. Fish retained by the experimental net and the control net would be enumerated, weighed and measured, and returned to the sea as quickly as possible. Length frequencies of the fish retained and an estimate of escapement would be recorded for each tow. Each vessel would be exempted from 8 NE multispecies DAS in order to compensate for a portion of the cost of the research.

Based on the results of the EFPs, this action may lead to future rulemaking.

Authority: 16 U.S.C. 1801 et seq.

Dated: October 29, 2002.
Bruce C. Morehead,
Acting Director, Office of Sustainable Fisheries, National Marine Fisheries Service.

[FR Doc. 02-28008 Filed 11-1-02; 8:45 am]

BILLING CODE 3510-22-S